DEPARTMENT OF JUSTICE

Notice of Lodging of Consent Decree Under the Clean Air Act, RCRA, EPCRA and CERCLA

Under 28 CFR 50.7, notice is hereby given that on May 11, 2001, a Consent Decree in United States, et al., v. Marathon Ashland Petroleum LLC, Civil Action No. 01-40119 was lodged with the United States District Court for the Eastern District of Michigan.

In the Complaint the United States seeks injunctive relief and against Marathon Ashland Petroleum LLC (hereinafter, “MAP”), pursuant to section 113(b) of the Clean Air Act (“CAA”), 42 U.S.C. 7413(b) (1983), amended by, 42 U.S.C. 7413(b) (Supp. 1991), the Resource Conservation and Recovery Act, (“RCRA”), 42 U.S.C. 6901 et seq.; the Comprehensive Environmental Response, Compensation and Liability Act (“CERCLA”), 42 U.S.C. 9603(a) and the Emergency Planning and Community Right to Know Act (“EPCRA”), 42 U.S.C. 11004(a) for alleged violations at MAP's seven refineries located in Robinson, Illinois; Garyville, Louisiana; Texas City, Texas; Catlettsburg, Kentucky; Detroit, Michigan; Canton, Ohio; and St. Paul Park, Minnesota.

Under the settlement, MAP will implement innovative pollution control technologies to greatly reduce emissions of nitrogen oxides (“NOX”) and sulfur dioxide (“SO2”) from refinery process units and adopt facility-wide enhanced monitoring and fugitive emission control programs. In addition, MAP will pay a civil penalty of $3.8 million, and perform supplemental environmental projects totaling approximately $5.9 million. The States of Minnesota, Louisiana, and Ohio, and Wayne County, Michigan will join in this settlement as signatories to the Consent Decree.

The Department of Justice will receive for a period of thirty (30) days from the date of this publication comments relating to the Consent Decree. Comments should be addressed to the Assistant Attorney General, Environment and Natural Resources Division, PO Box 7611, U.S. Department of Justice, Washington, DC 20044-7611, and should refer to United States, et al., v. Marathon Ashland Petroleum LLC, D.J. Ref. 90-5-2-1-07247.

The Consent Decree may be examined at the Office of the United States Attorney, 1001 Main Street, Suite A, Dyer, Indiana 46311 and at U.S. EPA Region 5, 77 West Jackson Blvd., Chicago, Illinois 60604. A copy of the Consent Decree may also be obtained by mail from the Consent Decree Library, PO Box 7611, U.S. Department of Justice, Washington, DC 20044-7611. In requesting a copy, please enclose a check in the amount of $50.00 (25 cents per page reproduction cost) payable to the Consent Decree Library.

Robert D. Brook,
Assistant Section Chief, Environmental Enforcement Section, Environment and Natural Resources Division.

[FR Doc. 01-12855 Filed 5-21-01; 8:45 am]

BILLING CODE 4410-15-M